SMALL BUSINESS ADMINISTRATION

[Disaster Declaration #17286 and #17287; Kentucky Disaster Number KY-00087]

Presidential Declaration of a Major Disaster for the Commonwealth of Kentucky

AGENCY: U.S. Small Business Administration.

ACTION: Notice.

SUMMARY: This is a Notice of the Presidential declaration of a major disaster for the Commonwealth of Kentucky (FEMA-4630-DR), dated 12/12/2021.

Incident: Severe Storms, Straight-line Winds, Flooding, and Tornadoes.

Incident Period: 12/10/2021 and continuing.

DATES: Issued on 12/12/2021.

Physical Loan Application Deadline Date: 02/10/2022.

Economic Injury (EIDL) Loan Application Deadline Date: 09/12/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 12/12/2021, applications for disaster loans may be filed at the address listed above or other locally announced locations.

The following areas have been determined to be adversely affected by the disaster:

Primary Counties (Physical Damage and Economic Injury Loans): Caldwell, Fulton, Graves, Hopkins, Marshall, Muhlenberg, Taylor, Warren

Contiguous Counties (Economic Injury Loans Only):

Kentucky: Adair, Allen, Barren, Butler, Calloway, Carlisle, Casey, Christian, Crittenden, Edmonson, Green, Hickman, Larue, Livingston, Logan, Lyon, Marion, McCracken, McLean, Ohio, Simpson, Todd, Trigg, Webster

Missouri: Mississippi, New Madrid

Tennessee: Henry, Lake, Obion, Weakley

The Interest Rates are:

| Percent
For Physical Damage:
Homeowners with Credit Available Elsewhere | 2.875
Homeowners without Credit Available Elsewhere | 1.438
Businesses with Credit Available Elsewhere | 5.660
Businesses without Credit Available Elsewhere | 2.830
Non-Profit Organizations with Credit Available Elsewhere | 1.875
Non-Profit Organizations without Credit Available Elsewhere | 1.875
For Economic Injury:
Businesses & Small Agricultural Cooperatives without Credit Available Elsewhere | 2.830
Non-Profit Organizations without Credit Available Elsewhere | 1.875

The number assigned to this disaster for physical damage is 17286 C and for economic injury is 17287 0.

(Catalog of Federal Domestic Assistance Number 59008)

Cynthia Pitts,
Acting Associate Administrator for Disaster Assistance.

[FR Doc. 2021-27282 Filed 12-15-21; 8:45 am]

BILLING CODE 8026-03-P